Executive Order 14327 of July 31, 2025

President's Council on Sports, Fitness, and Nutrition, and the Reestablishment of the Presidential Fitness Test

By the authority vested in me as President by the Constitution and the laws of the United States of America, and to promote the economic, academic, and social benefits of youth sports, fitness, and nutrition, it is hereby ordered:

Section 1. Revocation. Executive Order 13824 of February 26, 2018 (President's Council on Sports, Fitness, and Nutrition), is hereby revoked.

Sec. 2. Amendment. Executive Order 13265 of June 6, 2002 (President's Council on Physical Fitness and Sports), is hereby amended as follows:

(a) The title is revised to read as follows: “President's Council on Sports, Fitness, and Nutrition, and the Reestablishment of the Presidential Fitness Test”.

(b) The preamble is revised to read as follows: “By the authority vested in me as President by the Constitution and the laws of the United States of America, and to establish the President's Council on Sports, Fitness, and Nutrition, and to reestablish the Presidential Fitness Test, it is hereby ordered:”.

(c) Sections 1 through 5 are revised to read as follows:

“Section 1. Purpose. As the United States prepares to celebrate its semiquincentennial anniversary in 2026, we must address the threat to the vitality and longevity of our country that is posed by America's declining health and physical fitness. For far too long, the physical and mental health of the American people has been neglected. Rates of obesity, chronic disease, inactivity, and poor nutrition are at crisis levels, particularly among our children. These trends weaken our economy, military readiness, academic performance, and national morale. President Eisenhower recognized this issue when he created the President's Council on Youth Fitness in response to reports on the poor state of youth fitness in America. As President-elect, John F. Kennedy famously published an essay titled “The Soft American,” which outlined the imperative for improved health in order to maintain a strong and vital America. During my first term, I renamed the council the “President's Council on Sports, Fitness, and Nutrition” and directed the development of a National Youth Sports Strategy, among other activities.

My Administration has taken decisive action to reverse this health crisis. In the first month of my second term, I created the President's Make America Healthy Again Commission to restore the urgency of improving the health of Americans. Now, we build further. To advance this commitment, I hereby reestablish the Presidential Fitness Test, which shall be administered by the Secretary of Health and Human Services with the support of the Secretary of Education.

With this order, I revitalize the President's Council on Sports, Fitness, and Nutrition as a cornerstone of our national health renewal. In 2026, we will celebrate the 250th anniversary of our great Nation, honor the 70th anniversary of the original President's Council on Youth Fitness, and showcase America's continued global dominance in sports. Over the next 3 years, America will host the Ryder Cup, the President's Cup, the FIFA World Cup, and the Olympic Games—the world's premiere sporting competitions. These events will provide inspiration for all generations of Americans.

Sec. 2. Policy. It is the policy of my Administration to:

(a) prioritize and expand children's participation in youth sports and active play;

(b) promote the physical, mental, and civic benefits of daily movement, exercise, and good nutrition; and

(c) engage every sector—public and private, civilian and military—in creating a national culture of strength, vitality, and excellence.

Sec. 3. President's Council on Sports, Fitness, and Nutrition. (a) There is hereby established the President's Council on Sports, Fitness, and Nutrition (Council).

(b) The Council shall consist of up to 30 members appointed by the President. Members shall serve for a term of 2 years, shall be eligible for reappointment, and may continue to serve after the expiration of their terms until the appointment of a successor. The President may designate one or more of the members as Chair or Vice Chair.

(c) The President shall designate an Executive Director of the Council who shall manage day-to-day operations; serve as a liaison to the President on matters and activities pertaining to the Council; and oversee engagement with executive departments and agencies, athletic institutions, and community partners.

Sec. 4. Functions of the Council. (a) The Council shall advise the President concerning progress made in carrying out the provisions of this order and shall recommend to the President actions to accelerate such progress.

(b) In advising the President pursuant to subsection (a) of this section, the Council shall recommend:

(i) strategies for reestablishing the Presidential Fitness Test, with any appropriate improvements, as the main assessment tool for a Presidential Fitness Award;

(ii) strategies for the development and promotion of Presidential challenges and school-based programs that reward excellence in physical education;

(iii) actions to expand opportunities at the global, national, State, and local levels for participation in sports and engagement in physical fitness;

(iv) bold and innovative fitness goals for American youth with the aim of fostering a new generation of healthy, active citizens;

(v) campaigns and events that elevate American sports, military readiness, and health traditions;

(vi) opportunities at the global, national, State, and local levels that expand participation in sports and emphasize the importance of an active lifestyle and good nutrition, which should include partnerships with professional athletes, sports organizations, player's associations, influential figures, nonprofit organizations, and community groups to inspire all Americans, among other initiatives; and

(vii) strategies to address the growing national security threat posed by the increasing rates of childhood obesity, chronic diseases, and sedentary lifestyles, which threaten the future readiness of the United States workforce and military.

Sec. 5. Administration. (a) Each executive department and agency shall, to the extent permitted by law and subject to the availability of funds, furnish such information and assistance to the Council as it may request.

(b) Members of the Council shall serve without compensation but may receive travel reimbursement, including per diem in lieu of subsistence, as allowed under applicable law (5 U.S.C. 5701-5707), consistent with the availability of funds.

(c) The Department of Health and Human Services shall provide such funding and administrative and technical support as the Council may require, to the extent permitted by law and as authorized by existing appropriations.

(d) The Council may, with the approval of the President, establish subcommittees as appropriate to aid in its work.

(e) The seal prescribed by Executive Order 10830 of July 24, 1959 (Establishing a Seal for the President's Council on Physical Fitness and Sports), as amended, shall be modified to reflect the name of the Council as established by this order.

(f) Insofar as the Federal Advisory Committee Act, as amended (5 U.S.C. 1001 et seq.) (the “Act”), may apply to the administration of any portion of this order, any functions of the President under the Act, except that of reporting to the Congress, shall be performed by the Secretary of Health and Human Services in accordance with the guidelines and procedures issued by the Administrator of General Services.

(g) In accordance with the Act, the Council shall terminate 2 years from the date of this order, unless extended by the President.

(h) Executive Order 12345 of February 2, 1982 (Physical Fitness and Sports), as amended, is revoked.”.

(d) A new section 6 is added to read as follows:

“Sec. 6. General Provisions. (a) Nothing in this order shall be construed to impair or otherwise affect:

(i) the authority granted by law to an executive department or agency, or the head thereof; or

(ii) the functions of the Director of the Office of Management and Budget relating to budgetary, administrative, or legislative proposals.

(b) This order shall be implemented consistent with applicable law and subject to the availability of appropriations.

(c) This order is not intended to, and does not, create any right or benefit, substantive or procedural, enforceable at law or in equity by any party against the United States, its departments, agencies, or entities, its officers, employees, or agents, or any other person.”.

Sec. 3. General Provisions. (a) Nothing in this order shall be construed to impair or otherwise affect:

(i) the authority granted by law to an executive department or agency, or the head thereof; or

(ii) the functions of the Director of the Office of Management and Budget relating to budgetary, administrative, or legislative proposals.

(b) This order shall be implemented consistent with applicable law and subject to the availability of appropriations.

(c) This order is not intended to, and does not, create any right or benefit, substantive or procedural, enforceable at law or in equity by any party against the United States, its departments, agencies, or entities, its officers, employees, or agents, or any other person.

(d) The costs for publication of this order shall be borne by the Department of Education.

THE WHITE HOUSE,

July 31, 2025.

[FR Doc. 2025-15011

Filed 8-5-25; 11:15 am]

Billing code 4000-01-P